FEDERAL MARITIME COMMISSION

Meetings; Sunshine Act

Agency Holding the Meeting: Federal Maritime Commission.

Time and Date: April 8, 2009—10 a.m.

Place: 800 North Capitol Street, NW., First Floor Hearing Room, Washington, DC.

Status: A portion of the meeting will be in Open Session and the remainder of the meeting will be in Closed Session.

Matters to be Considered:

Open Session

1. Docket No. 02-15—Passenger Vessel Financial Responsibility—Request of Commissioner Brennan.

2. Docket No. 06-06—EuroUSA Shipping, Inc., Tober Group, Inc., and Container Innovations, Inc., et al.

3. Docket No. 06-09—Parks International Shipping, Inc., Cargo Express International Shipping, Inc., et al.

4. Docket No. 07-04—Norland Industries, Inc., Linna Textiles Manufacturing Limited, Medcorp Distributors, Inc., Malan Garment Limited, et al. v. Reliable Logistic, LLC and Washington International Insurance Company.

5. Docket No. 02-08—Odyssea Stevedoring of Puerto Rico, Inc. v. Puerto Rico Ports Authority; Docket No. 04-01—International Shipping Agency, Inc. v. the Puerto Rico Ports Authority; and Docket No. 04-06—San Antonio Maritime Corp. & Antilles Cement Corp. v. Puerto Rico Ports Authority.

6. FMC Agreement No. 011982-003: The Evergreen Line Joint Service Agreement.

Closed Session

1. FMC Agreement No. 201143: West Coast Marine Terminal Operator Agreement.

2. Staff Briefing Regarding Global Economic Downturn and Potential Impact on Stakeholders.

3. Termination of Escrow Account Establishing Section 3 Public Law 89-777 Coverage with respect to Abercrombie and Kent, Inc.

4. Internal Administrative Practices and Personnel Matters.

Contact Person for More Information: Karen V. Gregory, Secretary, (202) 523-5725.

Karen V. Gregory,
Secretary.

[FR Doc. E9-7712 Filed 4-2-09; 8:45 am]

BILLING CODE